DEPARTMENT OF THE TREASURY

Fiscal Service

Financial Management Service; Senior Executive Service; Financial Management Performance Review Board (PRB)

AGENCY: Financial Management Service, Fiscal Service, Treasury.

ACTION: Notice.

SUMMARY: This notice announces the appointment of members to the Financial Management Service (FMS) Performance Review Board (PRB).

DATES: This notice is effective on August 9, 2006.

FOR FURTHER INFORMATION CONTACT: Judith R. Tillman, Deputy Commissioner, Financial Management Service, 401 14th Street, SW., Washington, DC; telephone (202) 874-7000.

SUPPLEMENTARY INFORMATION: Pursuant to 5 U.S.C. 4314(c)(4), this notice is given of the appointment of individuals to serve as members of the FMS PRB. This Board reviews the performance appraisals of career senior executives below the Assistant Commissioner level and makes recommendations regarding ratings, bonuses, and other personnel actions. Four voting members constitute a quorum. The names and titles of the FMS PRB members are as follows:

Primary Members

Judith R. Tillman, Deputy Commissioner

Gary Grippo, Assistant Commissioner, Federal Finance

J. Martin Mills, Assistant Commissioner, Debt Management Services

Wanda Rogers, Assistant Commissioner, Financial Operations

Charles R. Simpson, Assistant Commissioner, Information Resources

D. James Sturgill, Assistant Commissioner, Governmentwide Accounting

Alternate Member

Scott H. Johnson, Assistant Commissioner, Management (Chief Financial Officer)

Dated: August 4, 2006.
Judith R. Tillman,
Deputy Commissioner.

[FR Doc. 06-6798 Filed 8-8-06; 8:45 am]

BILLING CODE 4810-35-M